DEPARTMENT OF TREASURY

Office of Foreign Assets Control

Blocking of Specially Designated Nationals Pursuant to Executive Order 13551

AGENCY: Office of Foreign Assets Control, Treasury.

ACTION: Notice.

SUMMARY: The Treasury Department's Office of Foreign Assets Control (“OFAC”) is publishing the names of two entities whose property and interests in property have been blocked pursuant to Executive Order 13551 of August 30, 2010, “Blocking Property of Certain Persons With Respect to North Korea.”

DATES: The designation by the Director of OFAC of the two entities identified in this notice, pursuant to Executive Order 13551 of August 30, 2010, is effective on November 18, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) via facsimile through a 24-hour fax-on demand service, tel.: (202) 622-0077.

Background

On August 30, 2010, the President signed Executive Order 13551 (the “Order”) pursuant to, inter alia, the International Emergency Economic Powers Act (50 U.S.C. 1701 et seq.), section 5 of the United Nations Participation Act of 1945, as amended (22 U.S.C. 287c), the National Emergencies Act (50 U.S.C. 1601 et seq.), and section 301 of Title 3, United States Code. In the Order, the President found that the continued actions and policies of the Government of North Korea, manifested most recently by its unprovoked attack that resulted in the sinking of the Republic of Korea Navy Ship Cheonan and the deaths of 46 sailors in March 2010, destabilize the Korean peninsula and imperil U.S. Armed Forces, allies, and trading partners in the region, and thereby constitute an unusual and extraordinary threat to the national security, foreign policy, and economy of the United States. The President identified in the Annex to the Order one individual and three entities as subject to the economic sanctions in the Order.

Section 1 of the Order blocks, with certain exceptions, all property and interests in property that are in, or thereafter come within, the United States, or within the possession or control of United States persons, of the persons listed in the Annex, as well as those persons determined by the Secretary of the Treasury, in consultation with the Secretary of State, to meet any of the criteria set forth in subparagraphs (a)(i)-(a)(ii)(G) of Section 1.

On November 18, 2010, the Director of OFAC exercised the Secretary of the Treasury's authority to designate, pursuant to one or more of the criteria set forth in Section 1 of the Order, the entities listed below, whose property and interests in property are blocked pursuant to E.O. 13551.

The listing of the blocked entities is as follows:

KOREA DAESONG BANK (a.k.a. CHOSON TAESONG UNHAENG; a.k.a. TAESONG BANK), Segori-dong, Gyongheung St., Potonggang District, Pyongyang, Korea, North; SWIFT/BIC KDBK KP PY (Korea, North); PHONE 850 2 381 8221; PHONE 850 2 18111 ext. 8221; FAX 850 2 381 4576; TELEX 360230 and 37041 KDP KP; TGMS daesongbank; E-mail kdb@co.chesin.com [DPRK]

KOREA DAESONG GENERAL TRADING CORPORATION (a.k.a. DAESONG TRADING; a.k.a. DAESONG TRADING COMPANY; a.k.a. KOREA DAESONG TRADING COMPANY; a.k.a. KOREA DAESONG TRADING CORPORATION), Pulgan Gori Dong 1, Potonggang District, Pyongyang City, Korea, North; PHONE 850 2 18111 8204/8208; PHONE 850 2 381 8208/4188; FAX 850 2 381 4431/4432; E-mail daesong@co.chesin.com [DPRK]

Dated: November 18, 2010.
Adam J. Szubin,
Director, Office of Foreign Assets Control.

[FR Doc. 2010-29549 Filed 11-23-10; 8:45 am]

BILLING CODE 4811-45-P